DEPARTMENT OF VETERANS AFFAIRS

Capital Asset Realignment for Enhanced Services (CARES) Commission; Notice of Meeting

The Department of Veterans Affairs (VA) gives notice under Public law 92-463 (Federal Advisory Committee Act) that the Capital Asset Realignment for Enhanced Services (CARES) Commission will hold a meeting on November 19-21, 2003, at the Hotel Washington, Pennsylvania Avenue at 15th Street, NW., Washington, DC 20004. The session on November 19 will begin at 10 a.m., and the sessions on November 20 and 21 will begin at 8:30 a.m. The sessions on November 19 and 20 will end at 5 p.m. The session on November 21 will end at 3:30 p.m. These sessions are open to the public.

The purpose of the Commission is to conduct an external assessment of VA's capital asset needs and to assure that stakeholder and beneficiary concerns are fully addressed. The Commission is reviewing recommendations in the Draft National CARES Plan. The Commission will also consider recommendations submitted by veterans service organizations, individual veterans, Congress, medical and nursing school affiliates, VA employees, local governments, community groups and others. Following its assessment, the Commission will make specific recommendations to the Secretary of Veterans Affairs on the realignment and allocation of VA capital assets to meet the demand for, and to enhance, veterans' healthcare services over the next 20 years.

At the November 19-21 meeting, the Commission will be briefed on the CARES process and the results of implementing that process in VA's Veterans integrated Service network (VISN) 12. The Commission will review the information received from nationwide site visits, public hearings, and various requests for data as well as information discussed in its regular public meetings. The Commission will engage in deliberations regarding the Draft National CARES Plan and its impact in the various markets.

No time will be allocated at these meetings for receiving oral presentations from the public. However, interested persons may either attend or file statements with the Commission. Written statements may be filed either before the meeting or within 10 days after the meeting and addressed to: Department of Veterans Affairs, CARES Commission (OOCARES), 810 Vermont Avenue, NW., Washington, DC 20420. Any member of the public wishing additional information should contact Mr. Richard E. Larson, Executive Director, CARES Commission, at (202) 501-2000.

Dated: October 29, 2003.
By Direction of the Secretary.
E. Phillip Riggin,
Committee Management Officer.

[FR Doc. 03-27730 Filed 11-14-03; 8:45 am]

BILLING CODE 8320-01-M